DEPARTMENT OF THE INTERIOR

Office of the Secretary

[DOI-2020-0018; 211D0107SL, D3L000000.000000, DL91200000]

Privacy Act of 1974; System of Records

AGENCY: Office of the Secretary, Interior.

ACTION: Rescindment of a system of records notice.

SUMMARY: The Department of the Interior (DOI) is issuing a public notice of its intent to rescind the Privacy Act system of records notice, INTERIOR/DOI-03, Financial Interest Statements and Ethics Counselor Decisions. During a review of the INTERIOR/DOI-03 system of records notice, DOI determined that employee public financial disclosure reports, financial interest statements, conflict of interest decisions, and other related records are covered under two Government-wide system of records notices published by the Office of Government Ethics (OGE). This rescindment will eliminate an unnecessary duplicate notice and promote the overall streamlining and management of DOI Privacy Act systems of records.

DATES: These changes take effect on September 7, 2021.

ADDRESSES: You may submit comments identified by docket number [DOI-2020-0018] by any of the following methods:

• Federal eRulemaking Portal: http://www.regulations.gov. Follow the instructions for sending comments.

• Email: DOI_Privacy@ios.doi.gov. Include docket number [DOI-2020-0018] in the subject line of the message.

• U.S. mail or hand-delivery: Teri Barnett, Departmental Privacy Officer, U.S. Department of the Interior, 1849 C Street NW, Room 7112, Washington, DC 20240.

Instructions: All submissions received must include the agency name and docket number [DOI-2020-0018]. All comments received will be posted without change to http://www.regulations.gov, including any personal information provided.

Docket: For access to the docket to read background documents or comments received, go to http://www.regulations.gov.

You should be aware that your entire comment including your personally identifiable information, such as your address, phone number, email address, or any other personal information in your comment, may be made publicly available at any time. While you may request to withhold your personally identifiable information from public review, we cannot guarantee we will be able to do so.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION: Pursuant to the provisions of the Privacy Act of 1974, as amended, 5 U.S.C. 552a, DOI is rescinding the INTERIOR/DOI-03, Financial Interest Statements and Ethics Counselor Decisions, system of records notice and removing it from its inventory. The DOI Ethics Office maintains records on employee public financial disclosure reports, financial interest statements, conflict of interest decisions, and other records to administer the DOI Ethics Program and ensure compliance with ethics laws and regulations. During a review of the INTERIOR/DOI-03 notice, DOI determined that these records are covered under two Government-wide system of records notices published by OGE: OGE/GOVT-1, Executive Branch Personnel Public Financial Disclosure Reports and Other Name-Retrieved Ethics Program Records, 84 FR 47303 (September 9, 2019); and OGE/GOVT-2, Executive Branch Confidential Financial Disclosure Reports, 84 FR 47301 (September 9, 2019).

A Government-wide system of records is a system of records where one agency has regulatory authority over the records in the custody of multiple agencies and that agency has the responsibility for publishing a system of records notice that applies to all of the records regardless of their custodial location. The two OGE government-wide system of records notices apply to the records maintained by the DOI Ethics Program pursuant to ethics laws and regulations. Therefore, DOI is rescinding the INTERIOR/DOI-03, Financial Interest Statements and Ethics Counselor Decisions, system of records notice to eliminate an unnecessary duplicate notice in accordance with the Office of Management and Budget Circular A-108, Federal Agency Responsibilities for Review, Reporting, and Publication under the Privacy Act.

Rescinding the INTERIOR/DOI-03, Financial Interest Statements and Ethics Counselor Decisions, system of records notice will have no adverse impacts on individuals as the records are covered by OGE/GOVT-1, Executive Branch Personnel Public Financial Disclosure Reports and Other Name-Retrieved Ethics Program Records, and OGE/GOVT-2, Executive Branch Confidential Financial Disclosure Reports, which apply to the records regardless of their custodial location. This rescindment will also promote the overall streamlining and management of DOI Privacy Act systems of records. This notice hereby rescinds the INTERIOR/DOI-03, Financial Interest Statements and Ethics Counselor Decisions, system of records notice as identified below.

SYSTEM NAME AND NUMBER:

INTERIOR/DOI-03, Financial Interest Statements and Ethics Counselor Decisions.

HISTORY:

64 FR 18437 (April 14, 1999).

Teri Barnett,
Departmental Privacy Officer, Department of the Interior.

[FR Doc. 2021-19170 Filed 9-3-21; 8:45 am]

BILLING CODE 4334-63-P